DEPARTMENT OF THE INTERIOR

National Park Service

[NPS-WASO-NAGPRA-NPS0040131; PPWOCRADN0-PCU00RP14.R50000]

Notice of Inventory Completion: U.S. Department of Agriculture, Forest Service, Grey Towers National Historic Site, Milford, PA

AGENCY: National Park Service, Interior.

ACTION: Notice.

SUMMARY: In accordance with the Native American Graves Protection and Repatriation Act (NAGPRA), the U.S. Department of Agriculture, Forest Service, Grey Towers National Historic Site has completed an inventory of human remains and has determined that there is no lineal descendant and no Indian Tribe or Native Hawaiian organization with cultural affiliation.

DATES: Upon request, repatriation of the human remains in this notice may occur on or after June 13, 2025.

ADDRESSES: Joseph Koloski, U.S. Dept. of Agriculture, FS, Grey Towers National Historic Site, 151 Grey Towers Drive, Milford, PA 18337, telephone (570) 296-9630, email joseph.koloski@usda.gov.

SUPPLEMENTARY INFORMATION: This notice is published as part of the National Park Service's administrative responsibilities under NAGPRA. The determinations in this notice are the sole responsibility of the Grey Towers National Historic Site, and additional information on the determinations in this notice, including the results of consultation, can be found in its inventory or related records. The National Park Service is not responsible for the determinations in this notice.

Abstract of Information Available

Human remains representing, at least, one individual have been identified. No associated funerary objects are present. The cranium, incomplete right femur, incomplete right tibia, and incomplete left tibia of an adult probable male was located at Grey Towers NHS. Geographical location of removal, date of removal, and acquisition history are unknown. There is no indication these remains were treated with potentially hazardous materials.

Consultation

Invitations to consult were sent to the Delaware Nation, Oklahoma; Delaware Tribe of Indians; and the Stockbridge Munsee Community, Wisconsin.

Cultural Affiliation

The following types of information about the cultural affiliation of the human remains in this notice are available: biological and expert opinion. The information, including the results of consultation, identified:

1. No earlier group can be identified as connected to the human remains.

2. No Indian Tribe or Native Hawaiian organization can be identified as connected to the human remains.

3. No relationship of shared group identity between the earlier group and the Indian Tribe or Native Hawaiian organization that can be reasonably traced through time.

Determinations

The Grey Towers National Historic Site has determined that:

• The human remains described in this notice represent the physical remains of one individual of probable Native American ancestry.

• No known lineal descendant who can trace ancestry to the human remains in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after June 13, 2025. If competing requests for repatriation are received, the Grey Towers National Historic Site must determine the most appropriate requestor prior to repatriation. Requests for joint repatriation of the human remains are considered a single request and not competing requests. The Grey Towers National Historic Site is responsible for sending a copy of this notice to any consulting lineal descendant, Indian Tribe, or Native Hawaiian organization.

Authority: Native American Graves Protection and Repatriation Act, 25 U.S.C. 3003, and the implementing regulations, 43 CFR 10.10.

Dated: April 30, 2025.
Melanie O'Brien,
Manager, National NAGPRA Program.

[FR Doc. 2025-08485 Filed 5-13-25; 8:45 am]

BILLING CODE 4312-52-P